DEPARTMENT OF ENERGY

Federal Energy Regulatory Commission

Combined Notice of Filings #1

Take notice that the Commission received the following electric rate filings:

Docket Numbers: ER11-2855-002; ER11-2856-002; ER11-2857-002; ER10-2722-001; ER10-2787-001; ER10-2532-001; ER10-2488-002.

Applicants: Oasis Power Partners, LLC, Crescent Ridge LLC, Eurus Combine Hills I LLC, Avenal Park LLC, Sand Drag LLC, Sun City Project LLC, Eurus Combine Hills II LLC.

Description: Notice of Change in Status of Avenal Park LLC, et al.

Filed Date: 2/7/12.

Accession Number: 20120207-5140.

Comments Due: 5 pm ET 2/28/12.

Docket Numbers: ER12-543-002.

Applicants: Ethical Electric Benefit Co.

Description: Ethical Electric Benefit Co. Market Based Rate Filing Revised to be effective 12/6/2011.

Filed Date: 2/7/12.

Accession Number: 20120207-5108.

Comments Due: 5 pm ET 2/28/12.

Docket Numbers: ER12-559-001.

Applicants: Golden Valley Wind Park, LLC.

Description: Golden Valley Tariff to be effective 2/2/2012.

Filed Date: 2/7/12.

Accession Number: 20120207-5123.

Comments Due: 5 pm ET 2/28/12.

Docket Numbers: ER12-560-001.

Applicants: Milner Dam Wind Park, LLC.

Description: Milner Dam Tariff to be effective 2/2/2012.

Filed Date: 2/7/12.

Accession Number: 20120207-5124.

Comments Due: 5 pm ET 2/28/12.

Docket Numbers: ER12-561-001.

Applicants: Oregon Trail Wind Park, LLC.

Description: Oregon Trail Tariff to be effective 2/2/2012.

Filed Date: 2/7/12.

Accession Number: 20120207-5126.

Comments Due: 5 pm ET 2/28/12.

Docket Numbers: ER12-562-001.

Applicants: Pilgrim Stage Station Wind Park, LLC.

Description: Pilgrim Stage Tariff to be effective 2/2/2012.

Filed Date: 2/7/12.

Accession Number: 20120207-5135.

Comments Due: 5 pm ET 2/28/12.

Docket Numbers: ER12-563-001.

Applicants: Thousand Springs Wind Park, LLC.

Description: Thousand Springs Tariff to be effective 2/2/2012.

Filed Date: 2/7/12.

Accession Number: 20120207-5137.

Comments Due: 5 pm ET 2/28/12.

Docket Numbers: ER12-564-001.

Applicants: Tuana Gulch Wind Park, LLC.

Description: Tuana Gulch Tariff to be effective 2/2/2012.

Filed Date: 2/7/12.

Accession Number: 20120207-5138.

Comments Due: 5 pm ET 2/28/12.

Docket Numbers: ER12-565-001.

Applicants: Camp Reed Wind Park, LLC.

Description: Camp Reed Tariff to be effective 2/2/2012.

Filed Date: 2/7/12.

Accession Number: 20120207-5122.

Comments Due: 5 pm ET 2/28/12.

Docket Numbers: ER12-566-001.

Applicants: Payne's Ferry Wind Park, LLC.

Description: Payne's Ferry Tariff to be effective 2/2/2012.

Filed Date: 2/7/12.

Accession Number: 20120207-5134.

Comments Due: 5 pm ET 2/28/12.

Docket Numbers: ER12-567-001.

Applicants: Salmon Falls Wind Park, LLC.

Description: Salmon Falls Tariff to be effective 2/2/2012.

Filed Date: 2/7/12.

Accession Number: 20120207-5136.

Comments Due: 5 pm ET 2/28/12.

Docket Numbers: ER12-568-001.

Applicants: Yahoo Creek Wind Park, LLC.

Description: Yahoo Creek Tariff to be effective 2/2/2012.

Filed Date: 2/7/12.

Accession Number: 20120207-5139.

Comments Due: 5 pm ET 2/28/12.

Docket Numbers: ER12-711-001.

Applicants: NorthWestern Corporation.

Description: Amendment to Filing of Coordinated Operating Agreement with NaturEner Wind Watch to be effective 12/21/2011.

Filed Date: 2/7/12.

Accession Number: 20120207-5100.

Comments Due: 5 pm ET 2/28/12.

Docket Numbers: ER12-1011-000.

Applicants: REP Energy LLC.

Description: REP Energy LLC Baseline Filing of its Market Based Rate Tariff to be effective 2/7/2012.

Filed Date: 2/7/12.

Accession Number: 20120207-5029.

Comments Due: 5 pm ET 2/28/12.

Docket Numbers: ER12-1015-000.

Applicants: Powerex Corp.

Description: Request for Waiver of Provision of Powerex Corp. Market-Based Rate Schedule and Request for Expedited Treatment.

Filed Date: 2/7/12.

Accession Number: 20120207-5067.

Comments Due: 5 pm ET 2/21/12.

Docket Numbers: ER12-1016-000.

Applicants: Appalachian Power Company.

Description: 20120207 Att K and L Revisions Correction to be effective N/A.

Filed Date: 2/7/12.

Accession Number: 20120207-5133.

Comments Due: 5 pm ET 2/28/12.

Docket Numbers: ER12-1017-000.

Applicants: Southwest Power Pool, Inc.

Description: 1976R1 Kaw Valley Electric Cooperative, Inc. NITSA NOA to be effective 12/1/2011.

Filed Date: 2/7/12.

Accession Number: 20120207-5104.

Comments Due: 5 pm ET 2/28/12.

Docket Numbers: ER12-1018-000.

Applicants: Southwest Power Pool, Inc.

Description: 1977R1 Nemaha-Marshall Electric Cooperative NITSA NOA to be effective 12/1/2011.

Filed Date: 2/7/12.

Accession Number: 20120207-5106.

Comments Due: 5 pm ET 2/28/12.

Docket Numbers: ER12-1019-000.

Applicants: Burley Butte Wind Park, LLC.

Description: Burley Butte Tariff—Amendment to be effective 2/1/2012. 70.

Filed Date: 2/7/12.

Accession Number: 20120207-5121.

Comments Due: 5 pm ET 2/28/12.

Docket Numbers: ER12-1020-000.

Applicants: Midwest Independent Transmission System Operator, Inc.

Description: 02-07-12 Entergy Cost Deferral Filing to be effective 6/1/2011.

Filed Date: 2/7/12.

Accession Number: 20120207-5127.

Comments Due: 5 pm ET 2/28/12.

Docket Numbers: ER12-1021-000.

Applicants: Midwest Independent Transmission System Operator, Inc.

Description: 02-07-12 CDC Cost Deferral Filing to be effective 12/1/2011.

Filed Date: 2/7/12.

Accession Number: 20120207-5128.

Comments Due: 5 pm ET 2/28/12.

The filings are accessible in the Commission's eLibrary system by clicking on the links or querying the docket number.

Any person desiring to intervene or protest in any of the above proceedings must file in accordance with Rules 211 and 214 of the Commission's Regulations (18 CFR 385.211 and 385.214) on or before 5:00 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 08, 2012.
Nathaniel J. Davis, Sr.,
Deputy Secretary.

[FR Doc. 2012-3595 Filed 2-15-12; 8:45 am]

BILLING CODE 6717-01-P